DEPARTMENT OF HOMELAND SECURITY

Coast Guard

33 CFR Part 165

[Docket No. USCG-2025-0518]

Safety Zones; Annual Events in the Captain of the Port Eastern Great Lakes Zone

AGENCY: Coast Guard, DHS.

ACTION: Notification of enforcement of regulation.

SUMMARY: The Coast Guard will enforce multiple safety zones located in federal regulations for recurring marine events taking place in July 2025. This action is necessary and intended for the safety of life and property on navigable waters during these events. During the enforcement periods, no person or vessel may enter the respective safety zone without the permission of the Captain of the Port Eastern Great Lakes or a designated representative.

DATES: The regulations listed in 33 CFR 165.939 will be enforced for the regulated areas listed in Table 1 to § 165.939, as follows:

• Event No. (F)(7): Blazing Paddles (Blazing Paddles Paddlefest)—from 9:30 a.m. through 3:30 p.m. on July 19, 2025.

• Event No. (G)(4): City of Cleveland July 4th Fireworks—from 9:30 p.m. through 11:00 p.m. on July 4, 2025.

• Event No. (G)(5): Mentor Harbor Yacht Club Fireworks (Mentor Harbor Fireworks)—from 8:45 p.m. through 10:30 p.m. on July 3, 2025.

• Event No. (G)(6): Whiskey Island Boat Club Parade of Lights—from 9:00 p.m. through 11:30 p.m. on July 19, 2025.

• Event No. (G)(7): Lorain Independence Day (Lorain Independence Fireworks Days)—from 9:00 p.m. through 10:30 p.m. on July 4, 2025.

• Event No. (G)(9): Fairport Harbor Mardi Gras (Fairport Harbor Mardi Gras and Independence Day Celebration)—from 9:30 p.m. through 11:00 p.m. on July 5, 2025.

• Event No. (G)(10): Sheffield Lake Community Days (Sheffield Lake Annual Community Days Festival)—from 9:30 p.m. through 11:00 p.m. on July 18, 2025.

• Event No. (G)(11): Bay Village Independence Day Celebration—from 9:00 p.m. through 11:00 p.m. on July 5, 2025.

• Event No. (G)(12): Brogan Open Water Classic (2025 Brogan Open Water Classic)—from 6:30 a.m. through 11:00 a.m. on July 12, 2025.

• Event No. (G)(29): Wine and Walleye Festival Fireworks (Wine and Walleye Festival)—from 8:30 p.m. through 11:30 p.m., on July 26, 2025.

FOR FURTHER INFORMATION CONTACT: If you have questions about this notice of enforcement, call or email Petty Officer Andrew Nevenner at Marine Safety Unit Cleveland's Waterways Management Division; telephone 216-937-0111, email D09-SMB-MSUCLEVELAND-WWM@uscg.mil.

SUPPLEMENTARY INFORMATION: The Coast Guard will enforce multiple safety zones for annual events in the Captain of the Port Eastern Great Lakes Zone listed in 33 CFR 165.939, Table 1 to § 165.939 for events occurring in the month of July as listed in the Dates section. Pursuant to 33 CFR 165.23, entry into, transiting, or anchoring within these safety zones during an enforcement period is prohibited unless authorized by the Captain of the Port (COTP) Eastern Great Lakes or his designated representative. Those seeking permission to enter the safety zone may request permission from the COTP Eastern Great Lakes via channel 16, VHF-FM. Vessels and persons granted permission to enter the safety zone shall obey the directions of COTP Eastern Great Lakes or his designated representative. While within a safety zone, all vessels shall operate at the minimum speed necessary to maintain a safe course.

In addition to this notice of enforcement in the Federal Register, the Coast Guard will provide the maritime community with advance notification of this enforcement period via Broadcast Notice to Mariners or Local Notice to Mariners. If the Captain of the Port Eastern Great Lakes determines that the safety zone need not be enforced for the full duration stated in this notice, he may use a Broadcast Notice to Mariners to grant general permission to enter the respective safety zone.

Dated: June 17, 2025.
S.M. Murray,
Commander, U.S. Coast Guard, Acting Captain of the Port, Eastern Great Lakes.

[FR Doc. 2025-11586 Filed 6-23-25; 8:45 am]

BILLING CODE 9110-04-P